ENVIRONMENTAL PROTECTION AGENCY

[EPA-HQ-OPPT-2010-0768; FRL-8847-1]

EPA's Role in Advancing Sustainable Products

AGENCY: Environmental Protection Agency (EPA).

ACTION: Notice.

SUMMARY: EPA is interested in soliciting individual stakeholder input regarding the Agency's role in the “green” or sustainable products movement. The Agency will consider the information gathered from this notice and other sources as it works to define its role and develop a strategy that identifies how EPA can make a meaningful contribution to the development, manufacture, designation, and use of sustainable products.

DATES: Comments must be received on or before October 19, 2010.

ADDRESSES: Submit your comments, identified by docket identification (ID) number EPA-HQ-OPPT-2010-0768, by one of the following methods:

• Federal eRulemaking Portal: http://www.regulations.gov. Follow the on-line instructions for submitting comments.

• Mail: Document Control Office (7407M), Office of Pollution Prevention and Toxics (OPPT), Environmental Protection Agency, 1200 Pennsylvania Ave., NW., Washington, DC 20460-0001.

• Hand Delivery: OPPT Document Control Office (DCO), EPA East Bldg., Rm. 6428, 1201 Constitution Ave., NW., Washington, DC. Attention: Docket ID Number EPA-HQ-OPPT-2010-0768. The DCO is open from 8 a.m. to 4 p.m., Monday through Friday, excluding legal holidays. The telephone number for the DCO is (202) 564-8930. Such deliveries are only accepted during the DCO's normal hours of operation, and special arrangements should be made for deliveries of boxed information.

Instructions: Direct your comments to docket ID number EPA-HQ-OPPT-2010-0768. EPA's policy is that all comments received will be included in the docket without change and may be made available on-line at http://www.regulations.gov, including any personal information provided, unless the comment includes information claimed to be Confidential Business Information (CBI) or other information whose disclosure is restricted by statute. Do not submit information that you consider to be CBI or otherwise protected through regulations.gov or e-mail. The regulations.gov Web site is an “anonymous access” system, which means EPA will not know your identity or contact information unless you provide it in the body of your comment. If you send an e-mail comment directly to EPA without going through regulations.gov, your e-mail address will be automatically captured and included as part of the comment that is placed in the docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the docket index available at http://www.regulations.gov. Although listed in the index, some information is not publicly available, e.g., CBI or other information whose disclosure is restricted by statute. Certain other material, such as copyrighted material, is not placed on the Internet and will be publicly available only in hard copy form. Publicly available docket materials are available either in the electronic docket at http://www.regulations.gov, or, if only available in hard copy, at the OPPT Docket. The OPPT Docket is located in the EPA Docket Center (EPA/DC) at Rm. 3334, EPA West Bldg., 1301 Constitution Ave., NW., Washington, DC. The EPA/DC Public Reading Room hours of operation are 8:30 a.m. to 4:30 p.m., Monday through Friday, excluding legal holidays. The telephone number of the EPA/DC Public Reading Room is (202) 566-1744, and the telephone number for the OPPT Docket is (202) 566-0280. Docket visitors are required to show photographic identification, pass through a metal detector, and sign the EPA visitor log. All visitor bags are processed through an X-ray machine and subject to search. Visitors will be provided an EPA/DC badge that must be visible at all times in the building and returned upon departure.

FOR FURTHER INFORMATION CONTACT: For technical information contact: Thomas Tillman, Pollution Prevention Division Mail Code (7409M), Office Pollution Prevention and Toxics, Environmental Protection Agency, 1200 Pennsylvania Ave., NW., Washington, DC 20460-0001; telephone number: (202) 564-8263; e-mail address: tillman.thomas@epa.gov.

For general information contact: The Pollution Prevention Information Clearinghouse (7409M), 1200 Pennsylvania Ave., NW., Washington, DC 20460-0001; telephone number: (202) 566-0799; e-mail address: PPIC@epa.gov.

SUPPLEMENTARY INFORMATION:

I. General Information

A. Does this action apply to me?

You may be potentially affected by this action if you manufacture, distribute, label, certify, verify, and purchase or use consumer, commercial, or industrial products that may be considered as “green,” “sustainable,” or “environmentally preferable.” Potentially affected entities may include, but are not limited to:

• Manufacturing (NAICS codes 31-33).

• Construction (NAICS code 23).

• Wholesale trade (NAICS code 42).

• Retail trade (NAICS codes 44-45).

• Professional, scientific and technical services (NAICS code 54).

• Accommodations and food services (NAICS code 72).

• Other services, except public administration (NAICS code 81).

• Public administration (NAICS code 92).

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the technical person listed under FOR FURTHER INFORMATION CONTACT.

B. What should I consider as I prepare my comments for EPA?

1. Submitting CBI. Do not submit this information to EPA through regulations.gov or e-mail. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. Background

A. What action is the Agency taking?

EPA is interested in soliciting individual stakeholder input regarding the Agency's role in the “green” or sustainable products movement. The Agency will consider the information gathered from this notice and other sources as it works to define its role and develop a strategy that identifies how EPA can make a meaningful contribution to the development, manufacture, designation, and use of sustainable products.

More specifically, EPA would appreciate your individual views regarding the following types of questions:

1. What do you see as the major policy and research challenges, opportunities, and trends impacting the development, manufacture, designation, and use of sustainable products?

2. What do you see as EPA's overall role in addressing these challenges and opportunities?

3. In particular, how do you see EPA's role in:

• Assembling information and databases.

• Identifying sustainability “hotspots” and setting product sustainability priorities.

• Evaluating the multiple impacts of products across their entire life cycle.

• Defining criteria for more sustainable products.

• Generating eco-labels and/or standards.

• Establishing the scientific foundation for these eco-labels and/or standards.

• Verifying that products meet standards.

• Stimulating the market.

• Developing end-of-life management systems (reuse, recycling, etc.).

• Measuring results, evaluating programs.

B. What is the Agency's authority for taking this action?

Section 13103(b) of the Pollution Prevention Act of 1990 requires the Administrator of EPA to facilitate the adoption of source reduction techniques by businesses and to identify opportunities to use Federal procurement to encourage source reduction.

List of Subjects

Environmental protection, environmentally preferable products, green products, procurement, sustainable products.

Dated: September 10, 2010.
Wendy Cleland-Hamnett,
Director, Office of Pollution Prevention and Toxics.

[FR Doc. 2010-23123 Filed 9-15-10; 8:45 am]

BILLING CODE 6560-50-P